ENVIRONMENTAL PROTECTION AGENCY

[FRL-9277-6]

Good Neighbor Environmental Board

AGENCY: Environmental Protection Agency (EPA).

ACTION: Notice of meeting.

SUMMARY: Under the Federal Advisory Committee Act, Public Law 92463, EPA gives notice of a meeting of the Good Neighbor Environmental Board (Board). The Board usually meets three times each calendar year, twice at different locations along the U.S. border with Mexico, and once in Washington, DC. It was created in 1992 by the Enterprise for the Americas Initiative Act, Public Law 102-532, 7 U.S.C. Section 5404. Implementing authority was delegated to the Administrator of EPA under Executive Order 12916. The Board is responsible for providing advice to the President and the Congress on environmental and infrastructure issues and needs within the States contiguous to Mexico in order to improve the quality of life of persons residing on the United States side of the border. The statute calls for the Board to have representatives from U.S. Government agencies; the States of Arizona, California, New Mexico and Texas; and Tribal and private organizations to provide advice on environmental and infrastructure issues along the U.S.-Mexico border.

The purpose of the meeting is to discuss the Board's 14th report, which will focus on the environmental and economic benefits of renewable energy in the border region. A copy of the meeting agenda will be posted at http://www.epa.gov/ocem/gneb.

DATES: The Good Neighbor Environmental Board will hold an open meeting on Thursday, March 24, from 8:30 a.m. (registration at 8 a.m.) to 5:30 p.m. The following day, March 25, the Board will meet from 8 a.m. until 2 p.m.

ADDRESSES: The meeting will be held at the Mandarin Oriental, 1330 Maryland Avenue, SW., Washington, DC 20024, phone number: 202-554-8588. The meeting is open to the public, with limited seating on a first-come, first-served basis.

FOR FURTHER INFORMATION CONTACT: Mark Joyce, Acting Designated Federal Officer, joyce.mark@epa.gov, 202-564-2130, U.S. EPA, Office of Federal Advisory Committee Management and Outreach (1601M), 1200 Pennsylvania Avenue, NW., Washington, DC 20460.

SUPPLEMENTARY INFORMATION: If you wish to make oral comments or submit written comments to the Board, please contact Mark Joyce at least five days prior to the meeting.

General Information: Additional information concerning the GNEB can be found on its Web site at http://www.epa.gov/ocem/gneb.

Meeting Access: For information on access or services for individuals with disabilities, please contact Mark Joyce at 202-564-2130 or by e-mail at joyce.mark@epa.gov. To request accommodation of a disability, please contact Mark Joyce at least 10 days prior to the meeting to give EPA as much time as possible to process your request.

Dated: February 28, 2011.
Mark Joyce,
Acting Designated Federal Officer.

[FR Doc. 2011-5209 Filed 3-7-11; 8:45 am]

BILLING CODE 6560-50-P